DEPARTMENT OF HOMELAND SECURITY

[Docket No. CISA-2020-0011]

Notice of the President's National Infrastructure Advisory Council Meeting

AGENCY: Cybersecurity and Infrastructure Security Agency (CISA), Department of Homeland Security (DHS).

ACTION: Notice of Federal Advisory Committee Act (FACA) meeting; request for comments.

SUMMARY: The President's National Infrastructure Advisory Council (NIAC) will meet remotely via conference call on Thursday, September 17, 2020. This meeting will be open to the public.

DATES:

Meeting Registration: Individual registration to attend the meeting by phone is required and must be received no later than 5:00 p.m. EST on September 14, 2020.

Speaker Registration: Individuals may register to speak during the meeting's public comment period. Registration must be received no later than 5:00 p.m. EST on September 14, 2020.

Written Comments: To facilitate public participation, CISA invites public comments on the agenda items and any associated briefing materials to be considered by the council at the meeting. Written comments must be received no later than 5:00 p.m. EST on September 7, 2020.

NIAC Meeting: The meeting will be held on Thursday, September 17, 2020 from 1:00 p.m.-5:00 p.m. EST. The meeting may close early if the council has completed its business.

ADDRESSES: The meeting will be held remotely via conference call. For access to the conference call bridge, information on services for individuals with disabilities, or to request special assistance to participate, please email NIAC@cisa.dhs.gov by 5:00 p.m. EST on September 14, 2020.

Comments: Written comments may be submitted on the issues to be considered by the NIAC as described in the SUPPLEMENTARY INFORMATION section below and any briefing materials for the meeting. Any briefing materials that will be presented at the meeting will be made publicly available before the meeting at the following website: https://www.cisa.gov/niac.

Comments identified by docket number “CISA-2020-0011” may be submitted by any of the following methods:

• Federal eRulemaking Portal: www.regulations.gov. Follow the instructions for submitting written comments.

• Email: NIAC@cisa.dhs.gov. Include docket number CISA-2020-0011 in the subject line of the message.

• Mail: Rachel Liang, Designated Federal Officer, National Infrastructure Advisory Council, Cybersecurity and Infrastructure Security Agency, Department of Homeland Security, 245 Murray Lane, Mail Stop 0612, Arlington, VA 20598-0612.

Instructions: All submissions received must include the agency name and docket number for this notice. All written comments received will be posted without alteration at www.regulations.gov, including any personal information provided. For detailed instructions on sending comments and additional information on participating in the upcoming NIAC meeting, see the “PUBLIC PARTICIPATION” heading of the SUPPLEMENTARY INFORMATION section of this document.

Docket: For access to the docket and comments received by the NIAC, go to www.regulations.gov.

A public comment period is scheduled to be held during the meeting from 2:45 p.m.-2:50 p.m. ET. Speakers who wish to participate in the public comment period must register by emailing NIAC@cisa.dhs.gov. Speakers are requested to limit their comments to three minutes and will speak in order of registration. Please note that the public comment period may end before the time indicated, following the last request for comments.

FOR FURTHER INFORMATION CONTACT: NIAC@cisa.dhs.gov.

SUPPLEMENTARY INFORMATION: The NIAC is established under Section 10 of Executive Order 13231 issued on October 16, 2001. Notice of this meeting is given under the Federal Advisory Committee Act (FACA), 5 U.S.C. Appendix (Pub. L. 92-463). The NIAC shall provide the President, through the Secretary of Homeland Security, with advice on the security and resilience of the Nation's critical infrastructure sectors. The NIAC will meet to discuss issues relevant to critical infrastructure security and resilience, as directed by the President.

The NIAC will meet in an open meeting on September 17, 2020, to discuss the following agenda items.

Agenda

I. Call to Order

II. Opening Remarks

III. Workforce and Talent Management Study Update

IV. COVID-19 Panel Discussion

V. Critical Infrastructure Command Center Follow-on Analysis Update

VI. Public Comment

VII. Closing Remarks

VIII. Adjournment

Public Participation

Meeting Registration Information

Requests to attend via conference call will be accepted and processed in the order in which they are received. Individuals may register to attend the NIAC meeting by phone by sending an email to NIAC@cisa.dhs.gov.

Public Comment

A public comment period will be held during the meeting from approximately 2:45 p.m.-2:50 p.m. EST. Speakers who wish to comment must register in advance and can do so by emailing NIAC@cisa.dhs.gov no later than Monday, September 14, 2020, at 5:00 p.m. EST. Speakers are requested to limit their comments to three minutes. Please note that the public comment period may end before the time indicated, following the last call for comments.

Information on Services for Individuals With Disabilities

For information on facilities or services for individuals with disabilities or to request special assistance at the meeting, please contact NIAC@cisa.dhs.gov by 5:00 p.m. EST on September 14, 2020.

Rachel Liang,
Designated Federal Officer, National Infrastructure Advisory Council, Cybersecurity and Infrastructure Security Agency, Department of Homeland Security.

[FR Doc. 2020-17940 Filed 8-14-20; 8:45 am]

BILLING CODE 9110-9P-P